DEPARTMENT OF HOMELAND SECURITY

U.S. Customs and Border Protection

[1651-0010]

Certificate of Registration (CBP Forms 4455 and 4457)

AGENCY: U.S. Customs and Border Protection (CBP), Department of Homeland Security.

ACTION: 30-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than September 21, 2022) to be assured of consideration.

ADDRESSES: Written comments and/or suggestions regarding the item(s) contained in this notice should be sent within 30 days of publication of this notice to www.reginfo.gov/public/do/PRAMain . Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (Volume 87 FR 16219) on March 22, 2022, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Certificate of Registration.

OMB Number: 1651-0010.

Form Number: CBP Forms 4455 and 4457.

Current Actions: Extension without change of an existing information collection.

Type of Review: Extension (without change).

Affected Public: Businesses.

Abstract: Travelers who do not have proof of prior possession in the United States of foreign made articles and who do not want to be assessed duty on these items can register them prior to departing on travel. In order to register these articles, the traveler must complete CBP Form 4457, Certificate of Registration for Personal Effects Taken Abroad, and present it at the port at the time of export for examination of the articles of foreign origin and verification of the description. After the official has signed the document, it will be returned to the applicant for signature, for presentation to CBP upon return to United States, and for subsequent reuse. CBP Form 4457 is accessible at: http://www.cbp.gov/newsroom/publications/forms?title=4457&=Apply.

CBP Form 4455, Certificate of Registration, is used primarily for the registration, examination, and supervised lading of commercial shipments of articles exported for repair, alteration, or processing, which will subsequently be returned to the United States either duty free or at a reduced duty rate. The CBP Form 4455 may be required when a person, wishing to claim the status of a nonresident upon arrival for a short visit to the United States before returning abroad, imports articles free of duty under subheadings 9804.00.20, 9804.00.25, 9804.00.30, 9804.00.35, Harmonized Tariff Schedule of the United States (HTSUS) (19 U.S.C. 1202). It may also be used for the replacement of articles previously exempted from duty when the unsatisfactory articles are exported under the provisions 9804.00.75 and fall under the $800 or $1,00 exemption limits. The export and return of theatrical scenery, properties, motion-picture films and effects or tools of a trade occupation or employment of domestic or foreign origin must also be reported on CBP Form 4555. The CBP Form 4455, may also be required in any case in which CBP Form 4457 will not adequately serve the purpose of registration. CBP Form 4455 must be presented to CBP for examination of the articles and verification of the articles' description. After the official has signed the document, it will be returned to the applicant for signature, for presentation to CBP upon return to United States, and for subsequent reuse. CBP Form 4455 is accessible at: http://www.cbp.gov/newsroom/publications/forms?title=4455&=Apply.

CBP Forms 4457 and 4455 are used to provide a convenient means of showing proof of prior possession of a foreign made item taken on a trip abroad and later returned to the United States. This registration is restricted to articles with serial numbers or other distinctive, permanently affixed unique markings, and are valid for reuse as long as the document legible to identify the registered articles. CBP Forms 4457 and CBP Form 4455 are provided for by 19 CFR 10.8, 10.9, 10.68, 148.1, 148.8, 148.32 and 148.37.

Type of Information Collection: CBP Form 4455.

Estimated Number of Respondents: 60,000.

Estimated Number of Annual Responses per Respondent: 1.

Estimated Number of Total Annual Responses: 60,000.

Estimated Time per Response: 10 minutes (0.166 hours).

Estimated Total Annual Burden Hours: 9,960.

Type of Information Collection: CBP Form 4457.

Estimated Number of Respondents: 140,000.

Estimated Number of Annual Responses per Respondent: 1.

Estimated Number of Total Annual Responses: 140,000.

Estimated Time per Response: 3 minutes (0.05 hours).

Estimated Total Annual Burden Hours: 7,000.

Dated: August 17, 2022.
Seth D. Renkema,
Branch Chief, Economic Impact Analysis Branch, U.S. Customs and Border Protection.

[FR Doc. 2022-18020 Filed 8-19-22; 8:45 am]

BILLING CODE P